DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date:September 15, 2010 9 a.m.-2 p.m.; September 16, 2010 8:30 a.m.-12:30 p.m.

Place: Embassy Suites Crystal City Hotel, 1300 Jefferson Davis Highway, Arlington, VA 22202, (703) 979-9799.

Status: Open.

Purpose: At this meeting the Committee will hear presentations and hold discussions on several health data policy topics. On the morning of the first day the Committee will hear updates from the Department, the Center for Medicare and Medicaid Services, and the Office of the National Coordinator for Health Information Technology. Draft letters to the HHS Secretary regarding the HIPAA national health plan identifier and operating rules on eligibility and claim status will also be discussed. In the afternoon there will be a discussion about a letter to the HHS Secretary regarding sensitive information in medical records.

On the morning of the second day there will be a review of the final letters regarding the national health plan identifier, operating rules on eligibility and claim status, and sensitive information in medical records. Subcommittees will also present their reports. The afternoon of the second day will conclude with a discussion of the 60th Anniversary Symposium that was held in June 2010.

The times shown above are for the full Committee meeting. Subcommittee breakout sessions can be scheduled for late in the afternoon of the first day and second day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: August 24, 2010.
James Scanlon,
Deputy Assistant Secretary for Planning and Evaluation (Science and Data Policy), Office of the Assistant Secretary for Planning and Evaluation.

[FR Doc. 2010-21516 Filed 8-27-10; 8:45 am]

BILLING CODE 4151-05-P